DEPARTMENT OF ENERGY

Federal Energy Regulatory Commission

[Docket No. RP94-367-011]

National Fuel Gas Supply Corporation; Notice of Pro Forma Compliance Filing

October 5, 2000.

Take notice that on September 29, 2000, National Fuel Gas Supply Corporation (National) tendered for filing pro forma tariff sheets to be part of its FERC Gas Tariff, Fourth Revised Volume No. 1, to implement the Gathering Settlement, approved by the Commission on February 16, 1996. National Fuel states that, pursuant to the Gathering Settlement, the revised rates are to be effective on April 1, 2001.

National states that, pursuant to Article IV, Section 2, of the Gathering Settlement, National is required to submit a Compliance filing to eliminate the Amortization Surcharge from its transmission rates by removing the gathering A&G costs, the interest and taxes related to the amortization of the “Plant to be Amortized,” and the amortization component of the transmission cost-of-service. Also, National is revising the Gathering cost-of-service to reflect $1,575,000 of A&G costs.

National states that copies of this filing were served upon its current customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26124 Filed 10-11-00; 8:45 am]

BILLING CODE 6717-01-M